DEPARTMENT OF THE INTERIOR

Bureau of Land Management

[LLCOS06000-L12320000-DA0000-14X-LVRDCO050000]

Notice of Intent To Establish a Campground Fee on Public Land in Gunnison County, Colorado

AGENCY: Bureau of Land Management, Interior.

ACTION: Notice of Intent.

SUMMARY: The Bureau of Land Management (BLM), Gunnison Field Office, Gunnison, Colorado, intends to establish an overnight camping fee at the Oh Be Joyful Campground.

DATES: Comments on the proposed fee changes must be received or postmarked by November 25, 2016 and include a legible full name and address. Effective February 26, 2017, the BLM will initiate fee collection at the Oh Be Joyful Campground, unless the BLM publishes a Federal Register notice to the contrary. Comments received after the close of the comment period or delivered to an address other than the one listed in this notice may not be considered or included in the administrative record for the proposed fee.

ADDRESSES: Documents concerning this fee change may be reviewed at the Gunnison Field Office, 210 W. Spencer Avenue, Suite A, Gunnison, CO 81230. Written comments may be mailed or delivered to the same address; faxed to 970-642-4990; or emailed to blm_co_gfo_nepa_comments@blm.gov with “Oh Be Joyful Fee Proposal” referenced in the subject line.

FOR FURTHER INFORMATION CONTACT: Stuart Schneider, Project Manager, at the address above, or phone (970) 642-4964. The Business Plan and information concerning the proposed fee schedule are available at http://www.blm.gov/co/st/en/fo/gfo.html. Persons who use a telecommunications device for the deaf (TDD) may call the Federal Information Relay Service (FIRS) at 1-800-877-8339 to contact Stuart Schneider during normal business hours. The FIRS is available 24 hours a day, seven days a week, to leave a message or question with the above individual. You will receive a reply during normal business hours.

SUPPLEMENTARY INFORMATION: The Oh Be Joyful Campground is a destination campground for people visiting in the Gunnison Basin near Crested Butte, Colorado. The BLM's overall goal is to maintain the area's recreational experiences, quality social setting and overnight camping that require substantial Federal investment, while protecting natural resources. The BLM is committed to finding the proper balance between public use and the protection of public lands and resources. The campground qualifies as a site wherein visitors can be charged an expanded amenity fee for overnight use, authorized under Section 803(g)(2)(h) of the Recreation Enhancement Act (REA), 16 U.S.C. 6801 et seq. In accordance with the REA and implementing regulations at 43 CFR 2930, visitors would obtain an individual Recreation Use Permit to camp within the Oh Be Joyful Campground. Campers would be required to display a permit stub at each campsite. Permits would expire at the beginning of the subsequent calendar day. The suggested fees for campsites are $10 per night for sites with picnic tables and campfire containment devices (a limit of eight people and up to two tents); $5 per night for overflow sites with campfire containment devices (a limit of eight people and up to two tents); and $30 per night for proposed group campsites (site designed for 9-25 people). A vault toilet is available for all designated campsites and portable toilets are set up for use by the overflow camping areas during the high-use summer months. If potable drinking water is provided, all site fees would increase by $5 per night. As infrastructure improvements are made at the Oh Be Joyful Campground, overnight fees will be charged accordingly for campsites. Free dispersed camping would no longer be available at the Oh Be Joyful Campground and the surrounding area (approximately 100 acres). The BLM's goals for the Oh Be Joyful Campground fee program are to provide additional facilities through capital improvements; ensure that funding is available to maintain the campground; manage visitor use and provide a quality recreation experience under existing rules and regulations; provide for law enforcement presence; develop additional services (such as expanding interpretive and educational information); and protect resources. The BLM will use fees collected to make infrastructure improvements and for expenses directly associated with managing the campground. Fees will be charged accordingly for any new campsites added to the Oh Be Joyful Campground and site amenities added to existing campsites. The BLM posted the Oh Be Joyful Campground Business Plan in October 2015, which outlines operational goals of the area and the purpose of the fee program. The Oh Be Joyful Campground Business Plan describes recreation opportunities and fees for camping. Prepared pursuant to the REA and the BLM recreation fee program policy, the Business Plan establishes the rationale for charging recreation fees, establishes a permit process, and establishes the collection of user fees. In accordance with the BLM recreation fee program policy, the Business Plan also outlines how the fees would be used at the campground area. The Business Plan also provides a market analysis of local recreation sites and sets the basis for the fee proposal. Through onsite notifications and local press releases, the BLM notified and involved the public at each stage of the planning process, including the proposal to collect fees. During a field office briefing in spring 2015, the Southwest Colorado Resource Advisory Council informally discussed and verbally expressed their support of charging a fee at the campground.

The BLM welcomes public comments on this proposal. Before including your address, phone number, email address, or other personal identifying information in your comment, you should be aware that your entire comment—including your personal identifying information—may be made publicly available at any time. While you can ask us in your comment to withhold your personal identifying information from public review, we cannot guarantee that we will be able to do so.

Authority: 16 U.S.C. 6803 and 43 CFR part 2932.

Ruth Welch,
BLM Colorado State Director.

[FR Doc. 2016-20450 Filed 8-25-16; 8:45 am]

BILLING CODE 4310-JB-P